DEPARTMENT OF HEALTH AND HUMAN SERVICES

Centers for Disease Control and Prevention

[30Day-17-1035]

Agency Forms Undergoing Paperwork Reduction Act Review

In accordance with the Paperwork Reduction Act of 1995, the Centers for Disease Control and Prevention (CDC) has submitted the information collection request titled National Notifiable Diseases Surveillance System to the Office of Management and Budget (OMB) for review and approval. CDC previously published a “Proposed Data Collection Submitted for Public Comment and Recommendations” notice on April 13, 2017 to obtain comments from the public and affected agencies. CDC received seven comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Assessing School-centered HIV/STD Prevention Efforts in a Local Education Agency (OMB Control #0920-1035, expiration 11/30/2017)—Revision—Division of Adolescent and School Health (DASH), National Center for HIV/AIDS, Viral Hepatitis, STD, and TB Prevention, Centers for Disease Control and Prevention (CDC).

Background and Brief Description

HIV infections remain high among young men who have sex with men. The estimated number of new HIV infections increased between 2008 and 2010 both overall and among MSM ages 13 to 24. Sexual risk behaviors associated with HIV, other sexually transmitted disease (STD), and pregnancy often emerge in adolescence. The 2015 Youth Risk Behavior Surveillance System (YRBSS) data revealed 41.2% of U.S. high school students reported having had sex, and among those who had sex in the previous three months, only 56.9% reported having used a condom during last sexual intercourse. The data revealed high school students identifying as gay, lesbian, and bisexual and those reporting sexual contact with both males and females were more likely to engage in sexual risk-taking behaviors than heterosexual students.

Given the disproportionate risk for HIV among YMSM ages 13-24, it is important to find ways to reach the younger youth (i.e., ages 13-19) in this range to decrease sexual risk behaviors and increase health-promoting behaviors such as routine HIV testing. Schools provide one opportunity for this. Because schools enroll more than 22 million teens (ages 14-19) and often have existing health and social services infrastructure, schools and their staff members are well-positioned to connect youth to a wide range of needed services, including housing assistance, support groups, and sexual health services such as HIV testing. As a result, CDC's DASH has focused a number of HIV and STD prevention efforts on strategies that can be implemented in or centered around schools.

For this revised information collection project, CDC requests a one-year OMB approval. This CDC-funded information collection project is the third data collection to assess HIV and STD prevention efforts in one local education agency (LEA). CDC's cooperative agreement, under funding opportunity announcement PS13-1308: Promoting Adolescent Health through School-Based HIV/STD Prevention and School-Based Surveillance, funds agencies and organizations to implement the following four key strategies. Strategy 1: School-Based Surveillance; Strategy 2: School-Based HIV/STD Prevention; Strategy 3: Capacity Building Assistance for School-Based HIV/STD Prevention; and Strategy 4: School-Centered HIV/STD Prevention for Young Men Who Have Sex with Men. This project aligns with Strategy 4 implementation.

This collection will provide data and reports for the LEA, and will allow the LEA to identify program areas that are working well and other areas that need improvement. The findings will allow CDC to determine the potential impact of currently recommended strategies and make changes to those recommendations if necessary.

The questionnaire covers demographics, HIV/STD risk behaviors, use of HIV/health services, experiences at school, including school connectedness, harassment and bullying, homophobia, support of LGBTQ students, sexual orientation, receipt of referral for HIV and STD prevention health services, and health education.

This data collection system involves administration of a paper-and-pencil questionnaire to seven high schools that are participating in the HIV/STD prevention project. This is the third and final data collection of a 4-year project that includes three data collections; previous data collections occurred in December 2014 and December 2016. Data collection points coincide with the approximate beginning, mid-way, and end points of the cooperative agreement.

We anticipate the final data collection will yield data from up to 16,500 high school students in grades 9 through 12 at the selected schools. Although some students may have completed the questionnaire in one or more of the previous years, this is not a longitudinal design and researchers will not track individual student responses across the years. Researchers will not collect personally identifiable information.

All students' parents will receive parental consent forms to provide them with an opportunity to opt their children out of the study. Each student will read verbal assent language that explains that he or she may choose not to complete the questionnaire or may skip any questions without penalty. Participation is voluntary.

The estimated burden per response ranges from 35-45 minutes due to the variability in skip patterns that may occur. Students will complete the questionnaire only once under this approval. Annualizing the collection over a one-year period results in an estimated annualized burden of 11,000 hours for respondents. There are no costs to respondents other than their time.

Estimated Annualized Burden Hours
Type of respondents | Form name | Number of respondents | Number of responses per respondent | Avg. burden per response (in hours)
Students in grades 9-12 | Youth Health and School Climate Questionnaire | 16,500 | 1 | 40/60

Leroy A. Richardson,
Chief, Information Collection Review Office, Office of Scientific Integrity, Office of the Associate Director for Science, Office of the Director, Centers for Disease Control and Prevention.

[FR Doc. 2017-21189 Filed 10-2-17; 8:45 am]

BILLING CODE 4163-18-P